DEPARTMENT OF ENERGY

Federal Energy Regulatory Commission

Notice of Draft License Application and Preliminary Draft Environmental Assessment and Request for Preliminary Recommendations, Prescriptions, and Terms and Conditions

May 2, 2001.

Take notice that the following hydroelectric application has been filed with the Commission and is available for public inspection.

a. Type of Application: New Major License.

b. Project No.: 346.

c. Date Filed: April 30, 2001.

d. Applicant: Minnesota Power Inc.

e. Name of Project: Blanchard Hydroelectric Project.

f. Location: On the Mississippi River near the City of Royalton, in Morrison County, MN. The project does not occupy any federal lands.

g. Filed Pursuant to: Federal Power Act 16 U.S.A. 791(a)-825(r).

h. Applicant Contact: Bob Bohm, Minnesota Power, Inc., P.O. Box 60, Little Falls, MN 56345, rbohm@mnpower.com 320-632-2318, ext. 5042.

i. FERC Contact: Tom Dean, thomas.dean@ferc.fed.us. 202-219-2778.

j. Status of Project: With this notice the Commission is soliciting: (1) Preliminary recommendations, prescriptions, and terms and conditions on the Preliminary Draft Environmental Assessment (PDEA); and (2) preliminary comments on the Draft License Application.

k. Deadline for filing preliminary comments, recommendations, prescriptions, and terms and conditions: 60 days from the issuance date of this notice.

All comments on the PDEA and Draft License Application should be sent to the addresses noted above in Item (h), with one copy filed with FERC at the following address: David P. Boergers, Secretary, Federal Energy Regulatory Commission, 888 First Street, NE, Washington, DC 20426. All comments must include the project name and number and bear the heading Preliminary Comments, Preliminary Recommendations, Preliminary Prescriptions, or Preliminary Terms and Conditions.

Comments, protests and interventions may be filed electronically via the internet in lieu of paper. See 18 CFR 385.2001(a)(1)(iii) and the instructions on the Commission's web site at http://www.ferc.fed.us/efi/doorbell.htm.

l. A copy of the application is available for inspection and reproduction at the Commission's Public Reference and Files Maintenance Branch, located at 888 First Street, N.E., Room 2-A, Washington, D.C. 20426, or by calling (202) 219-1371. A copy of the application may also be viewed or printed by accessing the Commission's website on the Internet at http://www.ferc.fed.us/online/rims.htm, or call (202) 208-2222 for assistance.

Minnesota Power Inc. has mailed notification to members of the collaborative team and interested parties of the filed PDEA and Draft License Application. Copies of these documents are also available by calling the applicant contact identified in Item (h) above.

m. With this notice, we are initiating consultation with the Minnesota STATE HISTORIC PRESERVATION OFFICER (SHPO), as required by Section 106, National Historic Preservation Act, and the regulations of the Advisory Council on Historic Preservation, 36 CFR 800.4.

David P. Boergers,
Secretary.

[FR Doc. 01-11480 Filed 5-7-01; 8:45 am]

BILLING CODE 6717-01-M